DEPARTMENT OF COMMERCE

International Trade Administration

[A-351-605, A-423-808, A-475-822, A-580-831]

Frozen Concentrated Orange Juice From Brazil and Stainless Steel Plate in Coils From Belgium, Italy, and the Republic of Korea; Extension of Final Results of Expedited Sunset Reviews of Antidumping Duty Order

AGENCY: Import Administration, International Trade Administration, Department of Commerce.

ACTION: Notice of extension of time limit for final results of expedited sunset reviews: frozen concentrated orange juice from Brazil and stainless steel plate in coils from Belgium, Italy, and the Republic of Korea.

SUMMARY: The Department of Commerce (“the Department”) is extending the time limit for its final results in the expedited sunset review of the antidumping duty orders on frozen concentrated orange juice (“FCOJ”) from Brazil and stainless steel plate in coils (“SSPC”) from Belgium, Italy, and the Republic of Korea. As a result of this extension, the Department intends to issue final results of these sunset reviews on or about August 30, 2004.

EFFECTIVE DATE: August 5, 2004.

FOR FURTHER INFORMATION CONTACT: Hilary E. Sadler, Esq., Import Administration, International Trade Administration, U.S. Department of Commerce, 14th Street & Constitution Avenue, NW., Washington, DC 20230; telephone: (202) 482-4340.

Extension of Final Results

On April 1, 2004, the Department initiated sunset reviews of the antidumping duty orders of FCOJ from Brazil and SSPC from Belgium, Italy, and Korea. See Initiation of Five-Year (Sunset) Reviews, 69 FR 17129 (April 1, 2004). In these proceedings, the Department determined that it would conduct expedited sunset reviews of these orders based on responses from the domestic and respondent interested parties to the notice of initiations. The Department's final results of these reviews were originally scheduled for July 30, 2004.

In accordance with section 751(c)(5)(C)(ii) of the Tariff Act of 1930, as amended (“the Act”), the Department may treat sunset reviews as extraordinarily complicated if the issues to be considered are complex. In these reviews, the Department is analyzing the magnitude of dumping margins likely to prevail for several companies from multiple countries and additional issues surrounding import volume. Because the Department has determined that these issues are complex according to 751(c)(5)(C)(ii) of the Act, we are extending the deadline for issuance of the final results. The Department intends to issue the final results on or about August 30, 2004 in accordance with section 751(c)(5)(B) of the Act.

Dated: July 30, 2004.
Joseph A. Spetrini,
Acting Assistant Secretary for Import Administration.

[FR Doc. 04-17920 Filed 8-4-04; 8:45 am]

BILLING CODE 3510-DS-P